DEPARTMENT OF THE TREASURY

Submission for OMB Review; Comment Request

September 9, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 20, 2003 to be assured of consideration.

Bureau of the Public Debt (PD)

OMB Number: 1535-0048.

Form Number: PD F 385.

Type of Review: Extension.

Title: Certificate of Identity.

Description: The form is used to establish the identity of the owner of U.S. Savings Securities.

Respondents: Individuals or households.

Estimated Number of Respondents: 177.

Estimated Burden Hours Per Respondent: 10 minutes.

Frequency of Response: On occasion.

Estimated Total Reporting Burden Hours: 30 hours.

OMB Number: 1535-0058.

Form Number: PD F 1646.

Type of Review: Extension.

Title: Disposition of United States Registered Securities and elated Checks for Nonadministered Estate.

Description: Used by person entitled to decedent's estate not being administered.

Respondents: Individuals or households.

Estimated Number of Respondents: 625.

Estimated Burden Hours Per Respondent: 10 minutes.

Frequency of Response: On occasion.

Estimated Total Reporting Burden Hours: 313 hours.

OMB Number: 1535-0063.

Form Number: PD F 4239.

Type of Review: Extension.

Title: Request for Payment or Reissue of U.S. Savings Bonds Deposited in Safekeeping.

Description: Used to request reissue or payment of bonds in safekeeping when custody receipts are not available.

Respondents: Individuals or households.

Estimated Number of Respondents: 500.

Estimated Burden Hours Per Respondent: 10 minutes.

Frequency of Response: On occasion.

Estimated Total Reporting Burden Hours: 84 hours.

OMB Number: 1535-0100.

Form Number: PD F 4094.

Type of Review: Extension.

Title: Affidavit by Individual Surety.

Description: Affidavit from individual acting as surety for indemnification agreement for lost, stolen or destroyed securities.

Respondents: Individuals or households.

Estimated Number of Respondents: 500.

Estimated Burden Hours Per Respondent: 55 minutes.

Frequency of Response: On occasion.

Estimated Total Reporting Burden Hours: 460 hours.

OMB Number: 1535-0120.

Form Number: PD F 5366, PD F 5354 and PD F 5367.

Type of Review: Extension.

Title: FHA New Account Request, Transaction Request, and Transfer Request.

Description: Used to establish account, change information on account, and transfer ownership.

Respondents: Individuals or households, business of other for-profit.

Estimated Number of Respondents: 600.

Estimated Burden Hours Per Respondent: 10 minutes.

Frequency of Response: On occasion.

Estimated Total Reporting Burden Hours: 102 hours.

Clearance Officer: Vicki S. Thorpe (304) 480-6553, Bureau of the Public Debt, 200 Third Street, Parkersburg, West VA 26106-1328.

OMB Reviewer: Joseph F. Lackey, Jr. (202) 395-7316, Office of Management and Budget, Room 10235, New Executive Office Building, Washington, DC 20503.

Lois K. Holland,
Treasury PRA Clearance Officer.

[FR Doc. 03-23946 Filed 9-18-03; 8:45 am]

BILLING CODE 4810-39-U